NATIONAL AERONAUTICS AND SPACE ADMINISTRATION

[NOTICE: (20-082)]

Request for Public Nominations for Authors and Scientific/Technical Inputs and Notice of Planned Public Engagement Opportunities for the Fifth National Climate Assessment

AGENCY: National Aeronautics and Space Administration (NASA).

ACTION: Request for public nominations for authors and scientific/technical inputs and notice of planned public engagement opportunities.

SUMMARY: NASA, on behalf of the U.S. Global Change Research Program (USGCRP), is soliciting nominations for authors and scientific/technical inputs for the Fifth National Climate Assessment (NCA5). Refer to the NCA5 Draft Prospectus (presented in a previous Federal Register Notice and accessible via www.globalchange.gov/notices) for further information on the scope, topics, and overarching themes for the report. This document also serves as a notice of planned public engagement opportunities. NCA5 will adhere to the Global Change Research Act (GCRA), Information Quality Act, and Evidence Act requirements for quality, transparency, and accessibility as appropriate for a Highly Influential Scientific Assessment.

DATES: Nominations should be submitted via the web address specified below and must be received by the close of this notice (30 days after publication). For best consideration, scientific/technical inputs should be submitted by the close of this notice but will be accepted on an ongoing basis throughout the planned 12-month initial report development process.

ADDRESSES: Nominations for authors must be submitted electronically using a web form accessible via https://www.globalchange.gov/notices. A short Curriculum Vitae (CV) of no more than four (4) pages must be included. Scientific/technical inputs should also be submitted electronically using a web form accessible via https://www.globalchange.gov/notices.

Instructions: Response to this notice is voluntary. Responses to this notice may be used by the Government for program planning on a non-attribution basis. NASA therefore requests that no business proprietary information or copyrighted information be submitted in response to this notice. Please note that the U.S. Government will not pay for response preparation or for the use of any information contained in the response.

FOR FURTHER INFORMATION CONTACT: Chris Avery, U.S. Global Change Research Program, (202) 419-3474, cavery@usgcrp.gov.

SUPPLEMENTARY INFORMATION: The Global Change Research Act (GCRA) of 1990 mandates that the U.S. Global Change Research Program (USGCRP) deliver a National Climate Assessment (NCA) to Congress and the President not less frequently than every four years that “(1) integrates, evaluates, and interprets the findings of the Program; (2) analyzes the effects of global change on the natural environment, agriculture, energy production and use, land and water resources, transportation, human health and welfare, human social systems, and biological diversity; and (3) analyzes current trends in global change, both human-induced and natural, and projects major trends for the subsequent 25 to 100 years.”

To date, four NCAs have been released. The first NCA was published in 2000, and the second was published in 2009. The third NCA was published in 2014, and the most recent assessment, NCA4, was released in two volumes and completed in November 2018.

NCA5 development will be transparent and inclusive, offering opportunities for public participation throughout the process. The production and review processes are designed to result in a report that is authoritative, timely, relevant, and policy neutral; valued by authors and users; accessible to the widest possible audience; and fully compliant with the GCRA. In July 2020, comments were solicited through a 30-day request for information on the draft Fifth National Climate Assessment (NCA5) Prospectus (https://www.federalregister.gov/documents/2020/07/10/2020/14904/request-for-comment-on-the-draft-prospectus-of-the-fifth-national-climate-assessment). Comments received on the draft Prospectus informed the list of potential topics included in Section I of the current request.

Author nominees may be invited to serve as Chapter Lead Authors, Authors, or Technical Contributors to NCA5. Both federal and non-federal experts may serve as Chapter Lead Authors. Chapter Lead Authors will, with input and guidance from the Federal Steering Committee (FSC), establish author teams comprising federal and non-federal experts. A Federal Coordinating Lead Author selected by the FSC will serve as a liaison between the author team and federal agencies. For more information on author roles, see www.globalchange.gov/nca5.

In addition, this request presents an opportunity to submit relevant scientific/technical inputs to inform the assessment. This request also outlines planned opportunities for the public to engage in the NCA5 development process.

Additional details and instructions for submitting nominations for authors and scientific/technical inputs are available at www.globalchange.gov/notices. For the responsibilities and expectations of the different types of authors and contributors, please see www.globalchange.gov/nca5. For more information about the NCA and for access to previous NCA reports and activities, please see www.globalchange.gov/nca5.

All participation in and contributions to the NCA will be without compensation and will be potentially included in the publicly released NCA. By voluntarily participating in the NCA, you acknowledge the following understandings:

1. Participation in the NCA means facilitating the development of the NCA, contributing new work to the NCA, or contributing preexisting work for the NCA. Any such work will be incorporated into the NCA at the Federal Government's discretion, including the possibility of modification, without any compensation and without redaction under the Freedom of Information Act (FOIA) or otherwise.

2. All contributions to the NCA of text and original figures (those newly created for NCA and not previously published) will be released under the Creative Commons 1.0 Universal Public Domain Dedication (CC0 1.0). Such contributions will not be protected by copyright or other intellectual property rights. Data, algorithms/models, and software code used to create or support the creation of text and original figures will also be publicly released in connection with the NCA. In some cases, such data, algorithms/models, and software code may be subject to copyright restrictions prohibiting both their use for commercial purposes and the creation of derivative works, such as CC BY-NC-ND 4.0, but any such restrictions may not prohibit their use for the purpose of reproducing results.

3. Participants assume any and all risks associated with participation in the NCA. By participating, participants inherently waive all claims against the Federal Government and its related entities, except for claims based on willful misconduct, for any injury, death, damage, or loss of property, revenue, or profits (whether direct, indirect, or consequential) arising from participation in the NCA.

4. By participating, participants agree to indemnify the Federal Government in the event that it suffers liability or damages as a result of its use of the contribution.

I. Call for Nominations for Authors

Nominations are sought for authors with pertinent subject matter expertise and background in the natural or social sciences. Nominees should be accomplished scholarly writers with a demonstrated history of scientific and technical expertise and academic proficiency in at least one of the regions/climate-related topics delineated below. Nominations are encouraged from all non-governmental sectors (academia, not-for-profit, and private). Submissions must document that nominees have demonstrated technical backgrounds such that they could contribute to the development of a robust scientific and technical assessment as subject matter experts in one or more of the listed topics. In addition, individuals interested in being considered for chapter leadership positions should have experience with leading collaborative teams under deadlines. Authors volunteering to assist in writing NCA5 are providing an important service to the United States. The Global Change Research Act of 1990 calls for the preparation of this quadrennial report and directs that it be delivered to the President and the Congress. Author roles allow these volunteers to contribute to the premier national assessment of the state of the science regarding global change. In addition to providing an opportunity to inform policy, participation in NCA5 will allow authors to expand their professional networks and visibility, and to explore opportunities to create derivative products. The Federal Government will not provide financial compensation for these roles. The Federal Government is expected to provide travel costs to authors to attend meetings requested for NCA5. USGCRP is working to streamline processes in order to make the author role as easy and satisfying as possible. Formal acknowledgment will be provided to each author's institution.

Responses to this request for nominations for authors must be submitted by 30 days from the opening of this notice. The nominations forms can be accessed via www.globalchange.gov/notices. Interested persons may nominate themselves or third parties for these roles, and individuals may submit multiple nominations. Each nomination must include (1) the nominee's full name, title, institutional affiliation, and contact information; (2) the nominee's area(s) of expertise; (3) the proposed NCA5 topic(s) (see below) for which the nominee is qualified; (4) a short description of the nominee's qualifications relative to contributing to the report; and (5) a current CV [maximum length four (4) pages]. Nominations with missing information, or for nominees who do not meet the eligibility requirements above, may not be considered.

NCA5 will attempt to address the full breadth of each topic and seeks a suitably diverse author pool, including experts representing the natural and social sciences, as well as traditionally underrepresented groups. Selection criteria for all author positions will consider technical expertise, disciplinary background, career status, and geographic representation. Nominees may be invited to serve as Chapter Lead Authors, Authors, or Technical Contributors to NCA5. Persons selected as Chapter Lead Authors will be informed after the close of the nominations window. Eligible nominees not selected as Chapter Lead Authors will be considered for roles as Authors or Technical Contributors.

In accordance with statutory language in the GCRA, NCA5 seeks authors with expertise in the areas of climate/earth system science, as well as sectoral, issue-specific, and regional impacts. This includes expertise in the following broad topic areas (subject to change):

• Climate/earth system science expertise to integrate, evaluate, and interpret the latest scientific findings; discuss the associated uncertainties; analyze current trends in global change; and project major trends for the subsequent 25 to 100 years.

• Sectoral and issue-specific impacts expertise, including in the social sciences, to analyze the effects of global change on the natural environment (including terrestrial, aquatic, and marine ecosystems); agriculture (including food); energy production and use; land and water resources (including land cover/land-use change, forests, coasts, oceans, and terrestrial/marine resources); transportation; human health and welfare (including air quality); human social systems (including the built environment, urban/rural systems, cities, and economics); biological diversity; tribes and Indigenous peoples; and response.

• Regional expertise that integrates across relevant natural and social science areas for the NCA regions (available at https://www.globalchange.gov/nca5).

Further, authors are welcome to nominate themselves for topics not listed above that are consistent with the GCRA mandate.

II. Call for Relevant Scientific/Technical Inputs To Inform NCA5

Submissions of scientific/technical inputs are sought for NCA5. Relevant scientific and/or technical research studies—including observed, modeled, and/or projected global change and climate science information, as well as societal drivers, vulnerability, impacts, and responses—are requested. Scientific/technical inputs that are peer-reviewed and published, or accepted for publication, in journals and/or government reports are welcome. Please refer to the NCA5 topics list above to target submissions. Submissions of regional information and information for cross-cutting or new topics since NCA4 are encouraged. For best consideration, please submit by the close of this notice.

Submissions must be uploaded electronically via the link provided at www.globalchange.gov/notices.

III. Notice of Planned Public Engagement Opportunities for NCA5

Multiple opportunities for public engagement to inform NCA5 will be presented throughout the report's development. The following planned public engagement schedule is presented to notify the public of these coming opportunities. We note that the time ranges proposed are tentative and subject to change based on the timing of various development stages for NCA5.

• Public comment on NCA5 annotated outline (Q2 2021)

• Public engagement workshops and webinars (Q2 2021 through Q3 2021)

• Public call for Review Editors (Q2 2022)

• Public comment on NCA5 Third Order Draft (Q3 & Q4 2022)

• National Academies of Sciences, Engineering, and Medicine peer review of NCA5 Third Order Draft (Q3 & Q4 2022)

Interested parties are invited to participate in these public engagement opportunities to ensure robust public input to NCA5. Specific dates and locations for all engagements will be provided on www.globalchange.gov/notices as they are determined. Members of the public may also sign up to receive updates through USGCRP's bimonthly newsletter at www.globalchange.gov/newsletter-signup.

Karen St Germain,
Director of Earth Science.

[FR Doc. 2020-22729 Filed 10-14-20; 8:45 am]

BILLING CODE 7510-13-P